SECURITIES AND EXCHANGE COMMISSION

Proposed Collection; Comment Request

Upon Written Request, Copies Available From: Securities and Exchange Commission, Office of Filing and Information Services, Washington, DC 20549.

Extension:

Rule 30e-2; SEC File No. 270-437; OMB Control No. 3235-0494.

Notice is hereby given that pursuant to the Paperwork Reduction Act of 1995 (44 U.S.C. 3501 et seq.) (the “Paperwork Reduction Act”) the Securities and Exchange Commission (“Commission”) is soliciting comments on the collections of information summarized below. The Commission plans to submit these existing collections of information to the Office of Management and Budget (“OMB”) for extension and approval.

Section 30(e) of the Investment Company Act of 1940 (15 U.S.C. 80a-29(e)) (the “Investment Company Act” or “Act”) and rule 30e-2 ¹ thereunder (17 CFR 270.30e-2) require registered unit investment trusts (“UITs”) that invest substantially all of their assets in securities of a management investment company ² (“fund”) to send to shareholders at least semi-annually a report containing certain financial statements and other information. Specifically, rule 30e-2 requires that the report contain the financial statements and other information that rule 30e-1 under the Act (17 CFR 270.30e-1) requires to be included in the report of the underlying fund for the same fiscal period. Rule 30e-1 requires that the underlying fund's report contain, among other things, the financial statements and other information that is required to be included in such report by the fund's registration form.

¹ Rule 30e-2 was originally adopted as rule 30d-2, but was redesignated as rule 30e-2 effective February 15, 2001. See Role of Independent Directors of Investment Companies, Investment Company Act Release No. 24816 (Jan. 2, 2001) (66 FR 3734 (Jan. 16, 2001)).

² Management investment companies are defined in Section 4(3) of the Investment Company Act as any investment company other than a face-amount certificate company or a unit investment trust, as those terms are defined in Section 4(1) and 4(2) of the Investment Company Act. See 15 U.S.C. 80a-4.

The purpose of this requirement is to apprise current shareholders of the operational and financial condition of the UIT. Absent the requirement to disclose all material information in reports, investors would be unable to obtain accurate information upon which to base investment decisions and consumer confidence in the securities industry might be adversely affected. Requiring the submission of these reports to the Commission permits us to verify compliance with securities law requirements. In addition, Rule 30e-2 permits, under certain conditions, delivery of a single shareholder report to investors who share an address (“householding”). Specifically, rule 30e-2 permits householding of annual and semi-annual reports by UITs to satisfy the delivery requirements of rule 30e-2 if, in addition to the other conditions set forth in the rule, the UIT has obtained from each applicable investor written or implied consent to the householding of shareholder reports at such address. The rule requires UITs that wish to household shareholder reports with implied consent to send a notice to each applicable investor stating that the investors in the household will receive one report in the future unless the investors provide contrary instructions. In addition, at least once a year, UITs relying on the rule for householding must explain to investors who have provided written or implied consent how they can revoke their consent. Preparing and sending the initial notice and the annual explanation of the right to revoke consent are collections of information under the Paperwork Reduction Act. The purpose of the notice and annual explanation requirements associated with the householding provisions of the rule is to ensure that investors who wish to receive individual copies of shareholder reports are able to do so.

The Commission estimates that as of April 2006, approximately 737 UITs were subject to the provisions of rule 30e-2. The Commission further estimates that the annual burden associated with rule 30e-2 is 121 hours for each UIT, including an estimated 20 hours associated with the notice requirement for householding and an estimated 1 hour associated with the explanation of the right to revoke consent to householding, for a total of 89,177 burden hours.

In addition to the burden hours, the Commission estimates that the cost of contracting for outside services associated with complying with rule 30e-2 is $24,640 per respondent (80 hours times $308 per hour for independent auditor services), for a total of $18,159,680 ($24,640 per respondent times 737 respondents).

These estimates are made solely for the purposes of the Paperwork Reduction Act, and are not derived from a comprehensive or even a representative survey or study of the costs of Commission rules and forms.

The collection of information under Rule 30e-2 is mandatory. The information provided under Rule 30e-2 is not kept confidential. The Commission may not conduct or sponsor, and a person is not required to respond to, a collection of information unless it displays a currently valid OMB control number.

Written comments are invited on: (a) Whether the proposed collections of information are necessary for the proper performance of the functions of the agency, including whether the information will have practical utility; (b) the accuracy of the agency's estimate of the burden of the collections of information; (c) ways to enhance the quality, utility, and clarity of the information collected; and (d) ways to minimize the burden of the collections of information on respondents, including through the use of automated collection techniques or other forms of information technology. Consideration will be given to comments and suggestions submitted in writing within 60 days of this publication.

Please direct your written comments to R. Corey Booth, Director/Chief Information Officer, Securities and Exchange Commission, c/o Shirley Martinson 6432 General Green Way, Alexandria, Virginia, 22312; or send an e-mail to: PRA_Mailbox@sec.gov.

Dated: September 28, 2006.
Nancy M. Morris,
Secretary.

[FR Doc. E6-16549 Filed 10-5-06; 8:45 am]

BILLING CODE 8011-01-P